DEPARTMENT OF TRANSPORTATION

National Highway Traffic Safety Administration

49 CFR Parts 571 and 585

[Docket No. NHTSA-2011-0100]

Draft Environmental Assessment for Rulemaking To Establish Minimum Sound Requirements for Hybrid and Electric Vehicles

AGENCY: National Highway Traffic Safety Administration (NHTSA), Department of Transportation (DOT).

ACTION: Notice of availability.

SUMMARY: NHTSA is announcing the availability of a Draft Environmental Assessment (EA) to evaluate the potential environmental impacts of a proposed rule establishing a Federal Motor Vehicle Safety Standard (FMVSS) setting minimum sound requirements for hybrid and electric vehicles.

DATES: Comments must be received on or before March 15, 2013.

ADDRESSES: You may submit comments on the EA to the docket number identified in the heading of this document using any of the following methods:

• Federal eRulemaking Portal: go to http://www.regulations.gov. Follow the online instructions for submitting comments.

• Mail: Docket Management Facility, M-30, U.S. Department of Transportation, West Building, Ground Floor, Rm. W12-140, 1200 New Jersey Avenue SE., Washington, DC 20590.

• Hand Delivery or Courier: West Building Ground Floor, Room W12-140, 1200 New Jersey Avenue SE., between 9 a.m. and 5 p.m. Eastern Time, Monday through Friday, except Federal holidays.

• Fax: (202) 493-2251.

Regardless of how you submit your comments, you should mention the docket number of this document.

You may call the Docket at 202-366-9324.

Instructions: For detailed instructions on submitting comments and additional information on the rulemaking process, see the Public Participation heading of the Supplementary Information section of this document. Note that all comments received will be posted without change to http://www.regulations.gov, including any personal information provided.

FOR FURTHER INFORMATION CONTACT: For non-legal issues, Ms. Gayle Dalrymple, Office of Crash Avoidance Standards, National Highway Traffic Safety Administration, NVS-112, 1200 New Jersey Avenue SE., Washington, DC 20590. Telephone: 202-366-5559; fax: 202-493-2990.

For legal issues, Mr. Russell Krupen, Office of the Chief Counsel, National Highway Traffic Safety Administration, NCC-113, 1200 New Jersey Avenue SE., Washington, DC 20590. Telephone: 202-366-1834; fax: 202-366-3820.

SUPPLEMENTARY INFORMATION: Pursuant to the National Environmental Policy Act, NHTSA has prepared a Draft EA analyzing the potential environmental impacts of the agency's proposed action to establish minimum sound requirements for hybrid and electric vehicles. The Draft EA is being issued together with the agency's Notice of Proposed Rulemaking for FMVSS No.141, Minimum Sound Requirements for Hybrid and Electric Vehicles. The proposal would require hybrid and electric passenger cars, light trucks, medium and heavy duty trucks and buses, low speed vehicles, and motorcycles to meet certain minimum sound requirements and would apply to electric vehicles and to those hybrid vehicles that are capable of propulsion in any forward or reverse gear without operation of the vehicle's internal combustion engine.

On July 12, 2011, the agency published a Notice of Intent to Prepare an Environmental Assessment, which sought comment on the scope of the environmental analysis, the significant issues to be analyzed, and the nature of the analysis to be conducted. NHTSA received comments to the Notice of Intent from 35 individuals and organizations. NHTSA developed the alternatives analyzed in the Draft EA based on the comments received and further research and analysis conducted by the agency.

NHTSA invites interested parties to comment on the Draft EA by following the instructions under ADDRESSES above. The Draft EA is available on the agency's Web site at http://www.nhtsa.gov or on the public docket at http://www.regulations.gov (Docket No. NHTSA-2011-0100).

Issued on: January 7, 2013.
Christopher J. Bonanti,
Associate Administrator for Rulemaking.

[FR Doc. 2013-00361 Filed 1-9-13; 4:15 pm]

BILLING CODE 4910-59-P